DEPARTMENT OF COMMERCE

Foreign-Trade Zones Board

[Docket 32-2010]

Foreign-Trade Zone 152 - Burns Harbor, Indiana, Application for Reorganization under Alternative Site Framework

An application has been submitted to the Foreign-Trade Zones (FTZ) Board (the Board) by the Ports of Indiana, grantee of Foreign-Trade Zone 152, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u) and the regulations of the Board (15 CFR part 400). It was formally filed on May 4, 2010.

FTZ 152 was approved by the Board on December 9, 1988 (Board Order 393, 53 FR 52454, 12/28/88) and expanded on March 9, 1992 (Board Order 563, 57 FR 9103, 3/16/92) and September 16, 1993 (Board Order 654, 58 FR 50330, 9/27/93). The general-purpose zone currently consists of six sites in the Burns Harbor/Gary, Indiana area: Site 1: (533,288 sq. ft.) located at 201 Mississippi Street, within the Great Lakes Industrial Center, Gary (Lake County); Site 2: (441 acres) within the Port of Indiana/Burns International Harbor, Burns Harbor (Porter County); Site 3: (330 acres) within the Gary Regional Airport Complex located at 6001 West Industrial Highway, Gary (Lake County); Site 4: (50 acres) located at 700 Chase Street, Gary (Lake County) (expires 6/30/10); Site 5: (152,548 sq. ft.) located at 240 Waite Street, Gary (Lake County) (expires 9/1/10); and, Site 6: (277,455 sq. ft.) located at 425 W. 151st Street, East Chicago (Lake County), Indiana (expires 9/1/10). (An application is currently pending with the Board to include Sites 4 and 5 on a permanent basis and to reinstate 50 acres at Site 3 (Docket 56-2009)).

The grantee's proposed service area under the ASF would be Lake, Porter, La Porte, Newton, Jasper and Starke Counties, Indiana, as described in the application. If approved, the grantee would be able to serve sites throughout the service area based on companies' needs for FTZ designation. The proposed service area is within and adjacent to the Chicago Customs and Border Protection port of entry.

The applicant is requesting authority to reorganize its existing zone project to include all of the existing sites as “magnet” sites. The ASF allows for the possible exemption of one magnet site from the “sunset” time limits that generally apply to sites under the ASF, and the applicant proposes that Site 2 be so exempted. No usage-driven sites are being requested at this time. Because the ASF only pertains to establishing or reorganizing a general-purpose zone, the application would have no impact on FTZ 152's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is July 12, 2010. Rebuttal comments in response to material submitted during the foregoing period may be submitted during the subsequent 15-day period to July 26, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz. For further information, contact Claudia Hausler at Claudia.Hausler@trade.gov or (202)482-1379.

Dated: May 4, 2010.
Andrew McGilvray,
Executive Secretary.

[FR Doc. 2010-11171 Filed 5-10-10; 8:45 am]

BILLING CODE 3510-DS-S